DEPARTMENT OF THE INTERIOR

Bureau of Land Management

[LLCA942000 L57000000.BX0000 17X L5017AR; MO#4500122014]

Filing of Plats of Survey: California

AGENCY: Bureau of Land Management, Interior.

ACTION: Notice of official filing.

SUMMARY: The plats of survey of lands described in this notice are scheduled to be officially filed in the Bureau of Land Management (BLM), California State Office, Sacramento, California 30 calendar days from the date of this publication. The surveys, which were executed at the request of U.S. Forest Service, U.S. Fish and Wildlife Service, Bureau of Reclamation, Department of Defense, Bureau of Indian Affairs and Bureau of Land Management, are necessary for the management of these lands.

DATES: Unless there are protests to this action, the plats described in this notice will be filed on July 27, 2018.

ADDRESSES: You may submit written protests to the BLM California State Office, Cadastral Survey, 2800 Cottage Way W-1623, Sacramento, CA 95825. A copy of the plats may be obtained from the BLM, California State Office, 2800 Cottage Way W-1623, Sacramento, California 95825, upon required payment.

FOR FURTHER INFORMATION CONTACT: Jon Kehler, Chief, Branch of Cadastral Survey, Bureau of Land Management, California State Office, 2800 Cottage Way W-1623, Sacramento, California 95825; 1-916-978-4323; jkehler@blm.gov. Persons who use a telecommunications device for the deaf may call the Federal Relay Service (FRS) at 1-800-877-8339 to contact the above individual during normal business hours. The Service is available 24 hours a day, 7 days a week, to leave a message or question with the above individual. You will receive a reply during normal business hours.

SUPPLEMENTARY INFORMATION: The lands surveyed are:

Mount Diablo Meridian, California

T. 34 N, R. 9 W, dependent resurvey and subdivision of section 31, accepted August 2, 2017.

T. 25 S, R. 22 E, dependent resurvey, accepted August 7, 2017.

T. 26 N, R. 9 E, dependent resurvey, accepted August 15, 2017.

T. 33 N, R. 10 W, dependent resurvey and metes-and-bounds survey, accepted August 23, 2017.

T. 2 N, R. 26 E, metes-and-bounds survey, accepted August 30, 2017.

T. 2 N, R. 17 E, corrective dependent resurvey, dependent resurvey and subdivision, accepted August 30, 2017.

T. 8 S, R. 9 E, dependent resurvey, subdivision of section 13 and metes-and-bounds survey, accepted September 6, 2017.

T. 2 S, R. 26 E, dependent resurvey and subdivision of sections, accepted September 25, 2017.

T. 23 N, R. 13 E, dependent resurvey and subdivision of sections, accepted September 27, 2017.

T. 12 S, R. 22 E, dependent resurvey, subdivision of sections and metes-and-bounds survey, accepted December 5, 2017.

T. 28 S, R. 42 E, dependent resurvey, survey and metes-and-bounds survey, accepted January 19, 2018.

T. 29 S, R. 42 E, dependent resurvey and metes-and-bounds survey, accepted January 19, 2018.

T. 29 S, R. 43 E, dependent resurvey, accepted January 19, 2018.

T. 19 S, R. 29 E, dependent resurvey and subdivision of section 9, accepted February 21, 2018.

T. 30 S, R. 44 E, dependent resurvey, survey and metes-and-bounds survey, accepted February 26, 2018.

T. 42 N, R. 16 E, dependent resurvey, subdivision and metes-and-bounds survey, accepted March 12, 2018.

T. 30 S, R. 42 E, dependent resurvey, subdivision and metes-and-bounds survey, accepted April 30, 2018.

T. 30 S, R. 43 E, dependent resurvey and metes-and-bounds survey, accepted April 30, 2018.

T. 31 S, R. 43 E, dependent resurvey and subdivision, accepted April 30, 2018.

T. 19 N, R. 1 W, dependent resurvey, metes-and-bounds survey, meander survey and informative traverse, accepted May 14, 2018.

T. 8 S, R. 33 E, dependent resurvey and subdivision, accepted May 17, 2018.

San Bernardino Meridian, California

T. 5 N, R. 3 E, metes-and-bounds survey, accepted December 22, 2017.

T. 5 N, R. 5 E, dependent resurvey and metes-and-bounds survey, accepted December 22, 2017.

T. 3 S, R. 23 E, supplemental plat of the SE ¼ of section 35, accepted April 19, 2018.

T. 4 S, R. 23 E, supplemental plat of section 2, accepted April 19, 2018.

T. 4 S, R. 23 E, supplemental plat of section 11, accepted April 19, 2018.

A person or party who wishes to protest one or more plats of survey must file a written notice of protest within 30 calendar days from the date of this publication at the address listed in the ADDRESSES section of this notice. Any notice of protest received after the due date will be untimely and will not be considered. A written statement of reasons in support of a protest, if not filed with the notice of protest, must be filed within 30 calendar days after the notice of protest is filed. If a protest against the survey is received prior to the date of official filing, the filing will be stayed pending consideration of the protest. A plat will not be officially filed until the day after all protests have been dismissed or otherwise resolved.

Before including your address, phone number, email address, or other personal identifying information in your comment, you should be aware that your entire comment—including your personal identifying information—may be made publicly available at any time. While you can ask the BLM in your comment to withhold your personal identifying information from public review, we cannot guarantee that we will be able to do so.

Authority: 43 U.S.C., Chapter 3.

Jon L. Kehler,
Chief Cadastral Surveyor.

[FR Doc. 2018-13797 Filed 6-26-18; 8:45 am]

BILLING CODE 4310-40-P